DEPARTMENT OF AGRICULTURE

Animal and Plant Health Inspection Service

[Docket No. APHIS-2020-0103]

Notice of Request for Extension of Approval of an Information Collection; Commercial Transportation of Equines for Slaughter

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations for the commercial transportation of equines to slaughtering facilities.

DATES: We will consider all comments that we receive on or before February 1, 2021.

ADDRESSES: You may submit comments by either of the following methods:

• Federal eRulemaking Portal: Go to http://www.regulations.gov/#!docketDetail;D=APHIS-2020-0103.

• Postal Mail/Commercial Delivery: Send your comment to Docket No. APHIS-2020-0103, Regulatory Analysis and Development, PPD, APHIS, Station 3A-03.8, 4700 River Road Unit 118, Riverdale, MD 20737-1238.

Supporting documents and any comments we receive on this docket may be viewed at http://www.regulations.gov/#!docketDetail;D=APHIS-2020-0103 or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations for the commercial transportation of equines for slaughter, contact Dr. Rory Carolan, Equine Specialist, Surveillance, Preparedness, and Response Services, VS, APHIS, 4700 River Road Unit 46, Riverdale, MD 20737; (301) 851-3558. For copies of more detailed information on the information collection, contact Mr. Joseph Moxey, APHIS' Information Collection Coordinator, at (301) 851-2483.

SUPPLEMENTARY INFORMATION:

Title: Commercial Transportation of Equines for Slaughter.

OMB Control Number: 0579-0332.

Type of Request: Extension of approval of an information collection.

Abstract: Sections 901-905 of the Federal Agriculture Improvement and Reform Act of 1996 (7 U.S.C. 1901) authorize the Secretary of Agriculture to issue guidelines for regulating the commercial transportation of equines to slaughter by persons regularly engaged in that activity within the United States. Specifically, the Secretary is authorized to regulate the food, water, and rest provided to these equines while the equines are in transit and to review related issues appropriate to ensuring that these animals are treated humanely.

To implement the provisions of this Act, the Animal and Plant Health Inspection Service (APHIS) established minimum standards to ensure the humane movement of equines to slaughtering facilities, or to assembly points while en route to slaughtering facilities, via commercial transportation. These standards, contained in 9 CFR part 88, require that conveyances protect the health and well-being of the animals and meet certain other criteria; that double-deck conveyances are prohibited; and that access to food, water, and rest be provided to these animals 6 hours prior to shipment. APHIS' regulations also require the application of backtags and completion of owner/shipper certificates of fitness to travel to a slaughter facility with identification of the animals and details of the transportation and signatures attesting to compliance with the provision of food, rest, and water and to the animal's fitness to travel. The regulations further prohibit the use of electric prods and state aggressive animals must be separated. Any owner/shipper transporting equines to slaughtering facilities outside the United States must present the owner-shipper certificates to U.S. Department of Agriculture representatives at the border.

Implementing these regulations entails the use of information collection activities such as providing business information; completing owner/shipper certificates of fitness to travel to a slaughter facility; applying backtags, as needed; certificates of veterinary inspection; and maintaining records of the owner/shipper certificates and continuation sheets.

APHIS is asking the Office of Management and Budget (OMB) to approve these information collection activities for an additional 3 years. The activities described are associated with APHIS' efforts to ensure that equines being transported commercially for slaughter receive adequate food, water, and rest and that their health and well-being are protected.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.465 hours per response.

Respondents: Owners and shippers of slaughter horses, owners or operators of slaughtering facilities, and drivers of the transport vehicles.

Estimated annual number of respondents: 302.

Estimated annual number of responses per respondent: 61.

Estimated annual number of responses: 18,500.

Estimated total annual burden on respondents: 8,608 hours. (Due to averaging, the total annual burden hours may not equal the product of the annual number of responses multiplied by the reporting burden per response.)

All responses to this notice will be summarized and included in the request for OMB approval. All comments will also become a matter of public record.

Done in Washington, DC, this 30th day of November 2020.
Mark Davidson,
Acting Administrator, Animal and Plant Health Inspection Service.

[FR Doc. 2020-26611 Filed 12-2-20; 8:45 am]

BILLING CODE 3410-34-P